DEPARTMENT OF AGRICULTURE

Forest Service

Thorne Bay Ranger District, Tongass National Forest, Alaska; Logjam Environmental Impact Statement

AGENCY: Forest Service, USDA

ACTION: Notice of intent to prepare an Environmental Impact Statement.

SUMMARY: The U.S. Department of Agriculture, Forest Service will prepare an Environmental Impact Statement (EIS) to harvest timber on north Prince of Wales Island, in a location south of Coffman Cove, west of Luck Lake and East of the Naukati/Sarkar on the Thorne Bay Ranger District, Tongass National Forest. The proposed action would harvest up to 50 million board feet (MMBF) of timber on approximately 4,500 acres. The project would require up to 32 miles of new road construction (14 of these would be temporary road) and seven miles of road reconstruction.

DATES: Comments concerning the scope of the analysis must be received within 30 days of the date of this notice. The draft environmental impact statement is expected November 2005 and will begin a 45-day public comment period. The final environmental impact statement and Record of Decision is expected June 2006.

ADDRESSES: You may comment on the project the the following ways:

• Mail: Thorne Bay Ranger District, Attn: Logjam EIS scoping comments, P.O. Box 19001, Thorne Bay, AK 99919.

• Fax to (907) 828-3309. Subject line: Logjam EIS scoping comments.

• E-mail: comments-alaska-tongass-thorne-bay@fs.fed.us Subject line: Logjam EIS scoping comments.

Include your name, address, and organization name if you are commenting as a representative. Scanned signatures are accepted on e-mails.

FOR FURTHER INFORMATION CONTACT: Chuck Klee, Project Leader, P.O. Box 19001, Thorne Bay, AK 99919. Phone (907) 828-3264.

SUPPLEMENTARY INFORMATION:

Purpose and Need for Action

The purpose of and need for the Logjam Timber Sale project is to provide timber harvest opportunities suitable for both large and small timber purchasers, mill operators, and the value-added wood product industries in Southeast Alaska in accordance with Forest Plan direction. The need for the project comes from a lack of timber volume under contract per requirements of the Tongass Timber Reform Act (TTRA) of 1990. The Logjam Timber Sale project is proposed at this time to respond to these needs, and to move the project area toward the desired condition as described in the Forest Plan. The Forest Supervisor will decide whether or not to harvest timber from the Logjam Timber Sale project area, and if so, how this timber will be harvested. The decision will be based on the information that is disclosed in the Environmental Impact Statement. The responsible official will consider comments, responses, the disclosure of environmental consequences, as well as applicable laws, regulations, and policies in making the decision and will state that rationale in the record of Decision.

The following Forest-wide goals and objectives as applied to the Logjam Project Area include:

(1) Improve timber growth and productivity on suitable timber lands made available for timber harvest, and manage these lands for long-term sustained yield of timber.

(2) Contribute to a timber supply from the Tongass that seeks to meet annual and Forest Plan planning cycle market demand.

(3) Provide opportunities for local employment in the wood products industry, which in turn contribute to the local and regional economies of Southeast Alaska.

The project area is located within Value Comparison Units (VCUs) 5770 and 5730s. All units are located within four of the six Land Use Designations (LUDs) that occur within the Project Area. The Logjam Timber Sale Project will respond to these goals and objectives, and help move the forest toward the Desired Future Condition of those LUDs as specified in the Forest Plan. It will do this by: (a) Managing suitable timber lands for the production of saw timber and other wood products on a sustained basis (Timber Production LUD, p. 3-144); (b) allowing for a variety of successional stages that provide for a range of wildlife habitat conditions, (Modified Landscape LUD, pp. 3-135 and 3-136); (c) the use of small openings or uneven-aged systems (Scenic Viewshed LUD, p. 3-127); and (d) providing for a variety of visual conditions (Recreational River LUD, p. 3-112). All four LUDs provide for timber harvest which contributes to Forest-wide sustained yield. The remaining two LUDs that do not contain proposed units are Scenic River and Old-Growth.

The need for the project comes from a lack of timber volume under contract per requirements of the Tongass Timber Reform Act (TTRA) of 1990. Seeking to meet timber demand for the Tongass National Forest is required by Section 101 of TTRA which states that, “* * * to the extent consistent with providing for the multiple use and sustained yield of all renewable forest resources, seek to provide a supply of timber from the Tongass National Forest which (1) meets the annual market demand for timber from such forest and (2) meets the market demand from such forest for each planning cycle.”

The determination of market demand and implementation of TTRA is measured periodically. Using the FY04 Timber Demand model, the estimate of volume to be offered to meet demand, by market scenarios, ranges from 153 million board feet (mmbf) in the Low, 177 mmbf Medium, and 254 mmbf High. The projected FY04 demand is based on the low market of 153 mmbf. With approximately 230 mmbf of NEPA-cleared timber currently under litigation it is expected that about 80 mmbf will actually be offered (Tongass Timber Demand Estimate for FY 2004; http://www.fs.fed.us/r10/tongass/forest_facts/faqs/demand).

There is a demand on Prince of Wales Island for small timber sales that offer lower investment opportunities suitable for the small business entities. The wood products harvested from such small sales contribute to a wide range of natural resource employment opportunities and value added wood products industries. Industry capacity on Prince of Wales for 2005 has been estimated at 120 MMBF (USFS spreadsheet “050128Timber_Demand_2005_Final.xls”). Currently, the remaining volume under contract to Prince of Wales businesses is 42 MMBF (Tongass NF pdf: “vol_under_contract_fy2004.pdf”). The project area is within reasonable proximity to local mills and communities on Prince of Wales Island.

Proposed Action

The proposed action is to harvest approximately 50 million board feet (MMBF) of timber from 82 units on approximately 4,500 acres resulting in a variety of small and large timber sales, using a combination of two-aged, uneven-aged, and even-aged silvicultural prescriptions. These prescriptions will be written to meet Forest Plan standards and guidelines, which will result in units with smaller openings and more partial cut harvesting overall that has historically occurred within the Project Area. The project would require up to 32 miles of new road construction (18 of these would be temporary road) and six miles of road reconstruction.

Public Participation

Public participation has been an integral component of the study process and will continue to be especially important at several points during the analysis. The Forest Service will be seeking information, comments, and assistance from Tribal governments, Federal, State, and local agencies, individuals and organizations that may be interested in, or affected by, the proposed activities.

In addition to this Notice of Intent, legal notices will be put in the Juneau Empire, the paper of record for this project. Publication is expected in the paper of record in early May. As a courtesy to island communities, legal notices will also be printed in the Island News and Ketchikan Daily News. Written scoping comments are being solicited through the scoping letters that were mailed to individuals and agencies on the Thorne Bay Ranger District public involvement list in May, 2005. The scoping process includes the following: (1) Identification of potential issues; (2) identification of issues to be analyzed in depth; and (3) elimination of non-significant issues or those which have been covered by a previous environmental review. Based on the results of scoping and the resource capabilities within the project area, alternatives including a “no-action” alternative will be developed for the Draft Environmental Impact Statement. Subsistence hearings, as provided for in Title VIII, Section 810 of the Alaska National Interest Lands Conservation Act (ANILCA), will be conducted, if necessary, during the comment period fo the Draft Environmental Impact Statement. A draft environmental impact statement will be prepared for comment. the comment period on the Draft Environmental Impact Statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the Draft Environmental Impact Statement stage but that are not raised until after completion of the Final Environmental Impact Statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the Final Environmental Impact Statement.

To assist the Forest Service in identifying and considering issues and concerns on the proposed action, comments on the Draft Environmental Impact Statement should be as specific as possible. It is also helpful if comments refer to specific pages or chapters of the draft statement. Comments may also address the adequacy of the Draft Environmental Impact Statement or the merits of the alternatives formulated and discussed in the statement. Reviewers may wish to refer to the Council on Environmental Quality Regulations for implementing the procedural provisions of the National Environmental Policy Act at 40 CFR 1503.3 in addressing these points. Comments received, including the names and addresses of those who comment, will be considered part of the public record on this proposal and will be available for public inspection.

Comments submitted anonymously will be accepted and considered; however, those who submit anonymous comments will not have standing to appeal the subsequent decision under 36 CFR parts 215 or 217. Additionally, pursuant to 7 CFR 1.27(d), any person may require the agency to withhold submission from the public record by showing how the Freedom of Information Act (FOIA) permits such confidentiality. Requesters should be aware that, under FIOA, confidentiality may be granted in only very limited circumstance, such as to protect trade secrets. The Forest Service will inform the requester of the agency's decision regarding the request of confidentiality, and where the request is denied; the agency will return the submission and notify the requester that the comments may be resubmitted with or without name and address within seven days.

To be most helpful and timely, scoping comments should be received within 30 days of the publication of this Notice of Intent. Public scoping meetings are planned for mid-May at four locations on Price of Wales Island where written comments can be given.

Preliminary Issues

Based on preliminary analysis and internal scoping efforts, we have developed an initial list of issues to be analyzed in the EIS:

• Increased hunting and trapping pressure, as a result of additional open road densities, may have an adverse affect on the wolf population in the project area.

• Cumulative effects of the proposed harvest and road construction may increase sedimentation, which could alter stream channel morphology and degrade fish habitat in the project area.

• The proposed action may adversely affect deer winter range, which could affect subsistence and sport hunting of deer.

• The proposed action would benefit local communities by providing additional employment opportunities and income.

Permits or Licenses Required

Permits required for implementation include the following:

1. U.S. Army Corp of Engineers:

—Approval of discharge of dredge or fill material into the waters for the United States under Section 404 of the Clean Water Act;

—Approval of the construction of structures or work in navigable waters of the United States under Section 10 of the Rivers and Harbor Act of 1899;

2. Environmental Protection Agency:

—General National Pollutant Discharge Elimination System for Log Transfer Facilities in Alaska;

—Review Spill Prevention Control and Countermeasure Plan;

3. State of Alaska, Department of Natural Resources:

—Tideland Permit and Lease or Easement;

—Certification of Compliance with Alaska Water Quality Standards (401 Certification) Chapter 20;

4. Office of Project Management & Permitting (DNR):

—Coastal Zone Consistency Determination concurrence.

Responsible Official

Forrest Cole, Forest Supervisor, Tongass National Forest Supervisor, Federal Building, 648 Mission Street, Ketchikan, Alaska 99901.

Nature of Decision To Be Made

The Forest Supervisor will decide: (1) The estimated timber volume to make available from the project, as well as the location, design, and scheduling of timber harvest, road construction and reconstruction, and silvicultural practices used; (2) access management measures (road, trail, and area restrictions and closures); (3) mitigation measures and monitoring requirements; (4) whether to make adjustments to the small old-growth reserve (OGR) in VCU 5700; and (5) whether there may be a significant restriction on subsistence uses.

(Authority: 40 CFR 1501.7 and 1508.22; Forest Service Handbook 1909.15, Section 21)

Dated: May 2, 2005.
Forrest Cole,
Forest Supervisor, Tongass National Forest.

[FR Doc. 05-9379 Filed 5-12-05; 8:45 am]

BILLING CODE 3410-11-M